DEPARTMENT OF VETERANS AFFAIRS

MyVA Federal Advisory Committee; Notice of Meeting

The Department of Veterans Affairs (VA) gives notice under the Federal Advisory Committee Act, 5 U.S.C. App. 2., that the MyVA Advisory Committee (MVAC) will meet July 12-13, 2016, at the Department of Veterans Affairs, VA Boston Healthcare System—West Roxbury Campus, 1400 VFW Parkway, West Roxbury, MA 02132.

The purpose of the Committee is to advise the Secretary, through the Executive Director, MyVA Task Force Office regarding the My VA initiative and VA's ability to rebuild trust with Veterans and other stakeholders, improve service delivery with a focus on Veteran outcomes, and set the course for longer-term excellence and reform of VA.

On July 12, from 8:00 a.m. to 10:00 a.m., the Committee will convene a closed session in order to protect Veteran privacy as the Committee tours the VA Boston Healthcare System—Jamaica Plain Division, 150 S. Huntington Avenue, Boston, MA 02130. From 10:30 a.m. to 5:15 p.m., the Committee will reconvene in an open session to discuss the progress on and the integration of the work in the five key MyVA work streams—Veteran Experience (explaining the efforts conducted to improve the Veteran's experience), Employees Experience, Support Services Excellence (such as information technology, human resources, and finance), Performance Improvement (projects undertaken to date and those upcoming), and VA Strategic Partnerships.

On July 13, from 8:00 a.m. to 12:30 p.m., the Committee will meet at the VA Boston Healthcare System—West Roxbury Campus, 1400 VFW Parkway, West Roxbury, MA 02132, to discuss and recommend areas for improvement on VA's work to date, plans for the future, and integration of the MyVA efforts. This session is open to the public.

Portions of these visits are closed to the public in accordance with 5 U.S.C. 552b(c)(6). Exemption 6 permits to Committee to close those portions of a meeting that is likely to disclose information of a personal nature where disclosure would constitute a clearly unwarranted invasion of personal privacy. During the closed sessions, the Committee will discuss VA beneficiary and patient information in which there is a clear unwarranted invasion of the Veteran or beneficiary privacy.

No time will be allocated at this meeting for receiving oral presentations from the public. However, the public may submit written statements for the Committee's review to Debra Walker, Designated Federal Officer, MyVA Program Management Office, Department of Veterans Affairs, 1800 G Street NW., Room 880-40, Washington, DC 20420, or email at Debra.Walker3@va.gov. Any member of the public wishing to attend the meeting or seeking additional information should contact Ms. Walker. Because the meeting will be held in a Government building, anyone attending must be prepared to show a valid photo government issued ID. Please allow a minimum 15 minutes to move through the security process.

Dated: June 1, 2016.
Jelessa Burney,
Federal Advisory Committee Management Officer.

[FR Doc. 2016-13229 Filed 6-3-16; 8:45 am]

BILLING CODE P